DEPARTMENT OF COMMERCE

National Oceanic and Atmospheric Administration

RIN 0648-XC821

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS, has made a preliminary determination that an exempted fishing permit application submitted by the Maine Department of Marine Resources contains all of the required information and warrants further consideration. This would exempt participating commercial fishing vessels from gear restrictions for the purpose of developing an alternative gear for the directed silver hake fishery.

Regulations under the Magnuson-Stevens Fishery Conservation and Management Act require publication of this notification to provide interested parties the opportunity to comment on applications for proposed EFPs.

DATES: Comments must be received on or before September 19, 2013.

ADDRESSES: You may submit written comments by any of the following methods:

• Email: nero.efp@noaa.gov. Include in the subject line “Comments on ME DMR Whiting EFP.”

• Mail: John K. Bullard, Regional Administrator, NMFS, NE Regional Office, 55 Great Republic Drive, Gloucester, MA 01930. Mark the outside of the envelope “Comments on ME DMR Whiting EFP.”

• Fax: (978) 281-9135.

FOR FURTHER INFORMATION CONTACT: Carly Bari, Fishery Management Specialist, 978-281-9224, Carly.Bari@noaa.gov.

SUPPLEMENTARY INFORMATION: The Maine Department of Marine Resources (DMR) submitted a complete application for an exempted fishing permit (EFP) on June 17, 2013, to conduct commercial fishing activities that the regulations would otherwise restrict. The EFP would exempt two federally permitted commercial fishing vessels from the requirement to use a raised footrope in the Gulf of Maine Raised Footrope Trawl Exemption Area for the purpose of testing an alternate bottom trawl net for harvesting silver hake. The applicant states that there has been poor performance of the raised footrope trawl in this area. This project would determine if there is a better performing gear that can maintain low bycatch consistent with the exempted gear performance standards.

Fishing operations would occur within the Gulf of Maine Raised Footrope Trawl Exemption Area. The two vessels would complete six days of research fishing with an estimated five 30-minute tows per day per vessel. The two vessels would conduct side-by-side tows to compare the regulated whiting net (control) with a traditional whiting net (alternative). The traditional whiting net is a modified four-seam small mesh shrimp net with a rubber cookie sweep/legs and a 2.5-inch mesh codend. Each net will retain the use of the Nordmøre grate as a bycatch deterrent. The traditional net replaces the raised footrope with a cookie sweep. This project requires exemptions from gear requirements in the Gulf of Maine Regulated Mesh Area and the Gulf of Maine Raised Footrope Trawl Exemption Area. The two research vessels will be similar in length, horsepower, and fishing capacity to maintain consistency in fishing effort. Additionally, the nets will alternate between the vessels. For each comparative tow, the following information will be recorded: position; time; depth; weather; catch data; and biological information on regulated bycatch species. All catch will be sorted by species and total weights recorded.

All catch of stocks allocated to NE multispecies sectors will be deducted from the sector's annual catch entitlement for each NE multispecies stock. Specifically, the sector assumed discard rate will be applied to fishing trips by the vessel participating under this EFP, whether the recorded discard rates from the experimental fishing are higher or lower than the assumed discard rate of the sector. The participating vessels would be required to comply with all other applicable requirements and restrictions specified at 50 CFR part 648, unless specifically exempted in this EFP.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: August 27, 2013.
Kelly Denit,
Acting Deputy Director, Office of Sustainable Fisheries, National Marine Fisheries Service.

[FR Doc. 2013-21385 Filed 9-3-13; 8:45 am]

BILLING CODE 3510-22-P